DEPARTMENT OF THE INTERIOR

Bureau of Land Management

[WO-310-1310-PB-01-24 1A]

Extension of Approved Information Collection, OMB Number 1004-0137

AGENCY: Bureau of Land Management, Interior.

ACTION: Notice and request for comments.

SUMMARY: In accordance with the Paperwork Reduction Act of 1995, the Bureau of Land Management (BLM) announces its intention to request renewal of an existing approval to collect certain information from oil and gas well operators concerning operations that were performed on each well, using the Well Completion or Recompletion Report and Log (Form 3160-4). BLM uses the information to ensure recording of an accurate, up-to-date, and detailed description of well completion or recompletion operations and compliance with approved plans for conservation of the resource and protection of the environment.

DATES: Comments on the proposed information collection must be received by October 17, 2000, to assure consideration of them.

ADDRESSES: Comments may be mailed to: Regulatory Affairs Group (630), Bureau of Land Management, 1849 C Street NW., Room 401LS, Washington, DC 20240.

Comments may be sent via Internet to: WOComment@blm.gov. Please include “Attn: 1004-0137” and your name and return address in your Internet message.

You may hand-deliver comments to the Bureau of Land Management, Administrative Record, Room 401, 1620 L Street, NW., Washington, DC.

BLM will make comments available for public review at the L Street address during regular business hours (7:45 a.m. to 4:15 p.m.), Monday through Friday.

FOR FURTHER INFORMATION CONTACT: Barbara Gamble, Fluid Minerals Group, (202) 452-0338.

SUPPLEMENTARY INFORMATION: In accordance with 5 CFR 1320.12(a), BLM is required to provide 60-day notice in the Federal Register concerning a collection of information contained in published current rules to solicit comments on (a) whether the collection of information is necessary for the proper performance of the functions of the agency, including whether the information has practical utility; (b) the accuracy of the agency's estimate of the burden of the collection, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

The Mineral Leasing Act of 1920 (30 U.S.C. 181 et seq.), as amended; the Mineral Leasing Act for Acquired Lands of 1947 (30 U.S.C. 351-359), as amended; the various Indian leasing acts; the National Environmental Policy Act of 1969 (42 U.S.C. 4321, et seq.), as amended; and other environmental laws govern onshore oil and gas operations. BLM's implementing regulations are located at 43 CFR part 3160. The regulations at 43 CFR 3162.4-1(b) require an oil and gas well operator to submit a Well Completion or Recompletion Report and Log (Form 3160-4) within 30 days after well completion. The information reported by the operator includes type of work, surface and subsurface location, start and completion dates, producing interval, casing, date of first production, and initial well potential. The operator certifies the accuracy and completeness of the information by signature and date.

BLM uses the information for royalty considerations and inspection and reservoir management purposes. Technical data provide means to evaluate the appropriateness of specific drilling and completion techniques. The data enable BLM to monitor the engineering aspects of production and the legal requirements of lease obligation to develop the resource. In its entirety, the data submitted are used for agency technical evaluation of operations performed on a well and initial well performance. The form documents that operations were carried out in accordance with the terms and provisions of the lease and in technically and environmentally safe manners. If BLM did not collect the information, it would lack the necessary information to monitor compliance with authorized well activity and operations that were performed on wells.

Based on its experience administering the onshore oil and gas program, BLM estimates that the public reporting burden for the information collected averages 1 hour per response. The information collected is already maintained by respondents for their own recordkeeping purposes and must only be entered on the form. Respondents are operators of oil and gas wells. The frequency of response is variable depending on the type of activity conducted at oil and gas wells and operating circumstances but averages two responses per respondent per year. The number of responses per year is approximately 2,200. The estimated total annual burden on new respondents is abut 2,200 hours. BLM is specifically requesting your comments on its estimate of the amount of time that it takes to prepare a response.

Any interested member of the public may request and obtain, without charge, a copy of Form 3160-4 by contacting the person identified under FOR FURTHER INFORMATION CONTACT.

BLM will summarize all responses to this notice and include them in the request for Office of Management and Budget approval. All comments will also become a matter of public record.

Dated: August 15, 2000.
Shirlean Beshir,
BLM Information Clearance Officer.

[FR Doc. 00-21112 Filed 8-17-00; 8:45 am]

BILLING CODE 4310-84-M